DEPARTMENT OF AGRICULTURE

National Agricultural Statistics Service

Notice of Intent To Seek Approval To Conduct an Information Collection

AGENCY: National Agricultural Statistics Service, USDA.

ACTION: Notice and request for comments.

SUMMARY: In accordance with the Paperwork Reduction Act of 1995, this notice announces the intention of the National Agricultural Statistics Service (NASS) to seek reinstatement of an information collection, the Census of Horticultural Specialties.

DATES: Comments on this notice must be received by September 14, 2009 to be assured of consideration.

ADDRESSES: You may submit comments, identified by docket number 0535-0236, 2009 Census of Horticultural Specialties, by any of the following methods:

• E-mail: ombofficer@nass.usda.gov. Include docket number and title above in the subject line of the message.

• Fax: (202) 720-6396.

• Mail: Mail any paper, disk, or CD-ROM submissions to: NASS Clearance Officer, U.S. Department of Agriculture, Room 5336A, Mail Stop 2024, South Building, 1400 Independence Avenue, SW., Washington, DC 20250-2024.

• Hand Delivery/Courier: Hand deliver to: David Hancock, NASS Clearance Officer, U.S. Department of Agriculture, Room 5336A, South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: 2009 Census of Horticultural Specialties.

OMB Control Number: 0535-0236.

Type of Request: Intent to Seek Reinstatement of an Information Collection as mandated by the Census of Agricultural Act of 1997 (Pub. L. 105-113).

Abstract: The National Agricultural Statistics Service (NASS) of the United States Department of Agriculture (USDA) will request approval from the Office of Management and Budget (OMB) for the 2009 Census of Horticultural Specialties survey to be conducted as a follow-on survey from the 2007 Census of Agriculture and is authorized by the Food, Conservation, and Energy Act of 2008 (Title X—Horticulture and Organic Agriculture).

The 2009 Census of Horticultural Specialties will use as a sampling universe; every respondent on the 2007 Census of Agriculture who reported production and sales of $10,000 or more of horticultural specialty crops, and is still in business in 2009. In addition, NASS also plans to contact all new operations that have begun producing horticultural specialty products since the completion of the 2007 Census of Agriculture. Data collection will begin around January 1, 2010 for production and sales data for 2009. A final report will be published around December 2010. Data will be published at both the U.S. and State levels where possible.

Estimate of Burden: Public reporting burden for this collection of information is estimated to average 60 minutes per response.

Respondents: Producers of horticultural specialty crops.

Estimated Number of Respondents: 40,000.

Estimated Total Annual Burden on Respondents: 40,000 hours.

The primary objectives of the National Agricultural Statistics Service are to prepare and issue State and national estimates of crop production, livestock production, economic statistics, and environmental statistics related to agriculture and to conduct the Census of Agriculture and its follow on surveys.

These data will be collected under the authority of 7 U.S.C. 2204(a). Individually identifiable data collected under this authority are governed by section 1770 of the Food Security Act of 1985, 7 U.S.C. 2276, which requires USDA to afford strict confidentiality to non-aggregated data provided by respondents. This Notice is submitted in accordance with the Paperwork Reduction Act of 1995 (Pub. L. 104-13) and Office of Management and Budget regulations at 5 CFR part 1320 (60 FR 44978, August 29, 1995).

Copies of this information collection and related instructions can be obtained without charge from the NASS OMB Clearance Officer, at (202) 720-2248.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, June 17, 2009.
Joseph T. Reilly,
Associate Administrator.

[FR Doc. E9-16635 Filed 7-13-09; 8:45 am]

BILLING CODE 3410-20-P